DEPARTMENT OF EDUCATION

[CFDA No. 84.326J]

Office of Special Education and Rehabilitative Services; Grant Applications under the Special Education—Technical Assistance and Dissemination to Improve Services and Results for Children with Disabilities Program

AGENCY: Department of Education.

ACTION: Notice inviting applications for new awards for fiscal year (FY) 2000.

Purpose of Program: The purpose of this program is to provide technical assistance and information through programs that support States and local entities in building capacity to improve early intervention, educational, and transitional services and results for children with disabilities and their families, and address systemic-change goals and priorities.

Eligible Applicants: State and local educational agencies, institutions of higher education, other public agencies, private nonprofit organizations, outlying areas, freely associated States, and Indian tribes or tribal organizations.

Applications Available: May 31, 2000

Deadline for Transmittal of Application: July 17, 2000

Deadline for Intergovernmental Review: September 17, 2000

Estimated Number of Awards: 1

Maximum Award: We will reject and will not consider an application that proposes a budget exceeding $1,900,000 for any single budget period of 12 months. The Assistant Secretary may change the maximum amounts through a notice published in the Federal Register.

Project Period: Under this priority, the Assistant Secretary will make one award for a cooperative agreement with a project period of up to 60 months subject to the requirements of 34 CFR 75.253(a) for continuation awards. During the second year of the project, the Assistant Secretary will determine whether to continue the Center for the fourth and fifth years of the project period and will consider in addition to the requirements of 34 CFR 75.253(a):

(a) The recommendation of a review team consisting of three experts selected by the Assistant Secretary. The services of the review team, including a two-day site visit to the project, are to be performed during the last half of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the project; and

(c) The degree to which the project's design and technical strategies demonstrate the dissemination of significant new knowledge.

Applicable Regulations: (a) The Education Department General Administrative Regulations (EDGAR) in 34 CFR parts 74, 75, 77, 79, 80, 81, 82, 85, 86, 97, 98, and 99; (b) The selection criteria for the priority under this program are drawn from the EDGAR general selection criteria menu. The specific selection criteria for this priority are included in the funding application packet for the applicable competition.

Note: The regulations in 34 CFR part 86 apply to institutions of higher education only.

General Requirements: (a) The Project funded under this notice must make positive efforts to employ and advance in employment qualified individuals with disabilities in project activities (see Section 606 of IDEA).

(b) Applicants and the grant recipient funded under this notice must involve individuals with disabilities or parents of individuals with disabilities in planning, implementing, and evaluating the projects (see Section 661(f)(1)(A) of IDEA).

(c) The Project funded under this competition must (1) use current research-validated practices and materials, and (2) communicate appropriately with target audiences, including young people, families, State and local agencies, and employers.

(d) The Project funded under this priority must budget for a two-day Project Directors' meeting in Washington, D.C. during each year of the project.

(e) Part III of the application submitted under the priority in this notice, the application narrative, is where an applicant addresses the selection criteria that are used by reviewers in evaluating the application. You must limit Part III to the equivalent of no more than 70 pages using the following standards:

• A “page” is 8.5″ x 11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I—the cover sheet; Part II—the budget section, including the narrative budget justification; Part IV, the assurances and certifications; or the one-page abstract, the resumes, the bibliography or references, or the letters of support. However, you must include all of the application narrative in Part III.

We will reject your application if—

• You apply these standards and exceed the page limit; or

• You apply other standards and exceed the equivalent of the page limit.

Waiver of Rulemaking

In most instances the Assistant Secretary is required to offer interested parties the opportunity to comment on proposed priorities. However, section 661(e)(2) of IDEA makes the Administrative Procedure Act (5 U.S.C. 553) inapplicable to the priority in this notice.

Priority: Under section 685 of IDEA and 34 CFR 75.105(c)(3) we consider only applications that meet the following priority: Absolute Priority—Secondary Education and Transition Technical Assistance Center (84.326J)

Background: Federal activities in support of transition have shifted in focus from a historical emphasis on the needs of students with significant disabilities to a more recent emphasis on students with high-incidence disabilities. Yet, based on the results of the National Longitudinal Transition Study of Special Education Students (NLTS) and data from the Monitoring and State Improvement Program Division of the Office of Special Education Programs (OSEP), it has become apparent that the transition needs of all students with disabilities are not being adequately met.

The transition needs of students with disabilities are reflected in many factors. First, school completion rates for students with disabilities are low, while at the same time, national studies report that students with disabilities who complete high school are more likely to be employed, to earn higher wages, and to enroll in postsecondary education and training. Second, the labor market demands higher levels of education and skills, and the completion of high school and further education become even more critical. Third, practitioners lack knowledge about integrating academic and career preparation into a seamless, individualized education program for youth with disabilities. Finally, general education initiatives have increased public accountability through more rigorous curriculum standards, large-scale assessment of student performance in relation to those standards, and increased graduation requirements.

To help meet demands for improved results, the IDEA Amendments of 1997 put forth a broader vision of secondary education with greater emphasis on participation and involvement in the general curriculum as a means to improve educational results for students with disabilities and to increase their rates of high school completion. Moreover, earlier transition planning is expected to result in improved postsecondary education participation and employment rates. To achieve this vision of improved postschool outcomes, collaborative partnerships must be developed among multiple systems, such as education, vocational rehabilitation, workforce development, health, social security, housing, and transportation.

To ensure full implementation of IDEA and to achieve quality education and transition results for students with disabilities and their families, Congress found that National technical assistance, support, and dissemination activities were necessary. For that reason, the Secondary Education and Transition Technical Assistance Center (SETAC) will be established to carry out activities that are national in scope, coordinated with other technical assistance and dissemination efforts, and aligned with other Federally-funded synthesis and research centers and institutes in order to avoid duplication. The goals of this Center are to:

(a) Promote secondary education and transition models that integrate academic, career, work-based, and community-based learning;

(b) Support State and local capacity building to improve education and transition results for youth with disabilities;

(c) Promote systemic change by facilitating school and community-based linkages in the provision of transition services to youth with disabilities; and

(d) Translate research into practice by using technical assistance and dissemination mechanisms.

The Center will be responsible for a wide range of work, including developing products and materials, conducting technical assistance activities that are topic-specific, and disseminating information about research-based models and practices. The Assistant Secretary is particularly interested in projects that engage the active participation of multiple partners.

Priority: The Assistant Secretary establishes an absolute priority to support a Center that will identify and promote effective policy and practice to improve secondary education and transition results for children with disabilities. At a minimum, this project must—

(a) Provide technical assistance and information by:

(1) Developing a network of researchers, technical assistance providers, and disseminators of research-based and promising practices to facilitate transition from post-secondary education, work, and independent living. This network must:

(i) Work collaboratively with other researchers, technical assistance providers, and disseminators to:

(A) Coordinate technical assistance and dissemination activities;

(B) Develop communication and dissemination strategies; and

(C) Develop products that include research findings and promising practices, including findings from OSEP-supported research and lessons from the School-to-Work program and other Federal youth transition programs, and are designed to broaden the capacity of technical assistance and information providers, particularly regular and special education technical assistance and information providers;

(ii) Include, at a minimum, Federally-funded national research institutes, technical assistance providers, and disseminators that address secondary education and transition issues. These entities may include, for example, the Research Institute for Secondary Education Reform; the Institute for Academic Access; the Center for Promoting What Works; the National Center for Education Outcomes; Regional Resource Centers (RRCs); the National Information Center on Children and Youth with Disabilities (NICHCY); the National Center on the Study of Postsecondary Education Supports; the National Clearinghouse on Postsecondary Education for Individuals with Disabilities (HEATH); the National Institute on Disability and Rehabilitation Research; and Rehabilitation Research and Training Centers, as well as researchers, technical assistance providers, and disseminators from regular education, such as the National Dissemination Center for Career and Technical Education and other related projects.

(2) Targeting, through proactive strategies and coordination with the IDEA Partnerships, organizations of policymakers, service providers, local-level administrators, and families. Targeted technical assistance must:

(i) Include policy and practice briefs explaining comprehensive secondary education and transition service requirements, and other emerging issues, trends, and legislation;

(ii) Include tools based on (i) above to assist in implementing research-based best practices; and

(iii) Be designed to use research-based and promising practices to:

(A) Improve academic results in secondary education;

(B) Improve transition practice;

(C) Increase postsecondary education participation rates and employment rates; and

(D) Prevent dropouts and increase high school completion rates.

(3) Conducting, in consultation with OSERS, a dynamic and innovative national summit in years two and four of the project. The summit must:

(i) Be designed to:

(A) Identify research-based and promising practices and initiate discussion on emerging issues and trends that affect postsecondary results for youth with disabilities, particularly through secondary education and transition services; and

(B) Sustain development and implementation of systems linkages and systems collaboration for effective transition; and

(ii) Include participants who are national experts in the field or key representatives of Federal agencies, and national organizations, and participants who represent local level leadership, families, employers, and persons with disabilities; and

(iii) Support systemic collaboration among SEAs, LEAs, and Federal education and workforce development programs including Healthy and Ready to Work, Youth Opportunity Grants, Youth Councils established under the Workforce Investment Act, relevant Social Security Administration programs, related Rehabilitation Services Administration and National Institute on Disability and Rehabilitation Research programs, relevant mental health programs, and other related programs and projects.

(4) Designing and implementing capacity-building training institutes on improving results for youth with disabilities, participation and involvement in the general curriculum, self-determination, interagency collaboration, implementation of the transition requirements of IDEA, and strategies for addressing other identified needs. The purpose of the training institutes is to assist technical assistance providers and disseminators to reach front-line service providers. The institutes must:

(i) Help develop, implement, and sustain systemic changes in secondary special education and transition services, that will improve results for all youth with disabilities and their families, including youth from minority backgrounds and youth with limited English proficiency;

(ii) Provide training for RRCs, HEATH, NICHCY, IDEA Partnership Projects, Parent Training Centers, and national technical assistance providers and disseminators; and

(iii) Provide targeted assistance to State technical assistance and information systems, including systems change projects. Targeted assistance includes training and technical assistance activities for implementing research-based practices, increasing participation in the general education curriculum and in large-scale assessments, developing effective interagency collaborations, and sustaining systemic change.

(b) Use state of the art technologies, such as accessible and interactive web sites, list servs, chat rooms, and video-conferencing, in providing technical assistance and disseminating information, including technical assistance and information on research-based and promising practices.

(c) Design and carryout a strategic management plan, including project evaluation. This plan must be designed to provide information to guide necessary, ongoing refinements to the structure, activities, and products that will improve the impact and effectiveness of the Center and will be collaboratively developed with the OSEP project officer and other Federal officials, customers, and network members during the first three months of the project. This plan must include:

(1) Annual data collection activities for needs assessments if extant data are not available;

(2) A clear description of effective strategies for meeting and evaluating project goals and activities;

(3) Goals, objectives, and activities that support the IDEA Government Performance Results Act (GPRA) Performance Plan; and

(4) Procedures for measuring the impact of the Center on its primary purpose—to identify and promote effective policy and practice for secondary education and transition services for youth with disabilities.

(d) Support, through internships or other collaborative arrangements, graduate students who will concentrate their studies in secondary special education or transition services and who show promise for continued service in leadership positions. These graduate students must be involved with all aspects of project activity.

(e) Meet with the OSEP project officer in the first four months of the project to review the needs assessment, evaluation plan, technical assistance, and dissemination approaches and the plan for collaboration with various network members.

(f) Budget three trips annually to Washington, DC (two trips to meet and collaborate with U.S. Department of Education officials and one trip, as specified in the general requirements, to attend the two-day Office of Special Education Programs Technical Assistance Project Directors' Conference).

Competitive Preferences: Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

FOR APPLICATIONS CONTACT: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site http://www.ed.gov/pubs/edpubs.html or its e-mail address edpubs@inet.ed.gov

If you request an application from Ed Pubs be sure to identify the competition as follows: CFDA 84.326J.

FOR FURTHER INFORMATION CONTACT: Grants and Contracts Services Team, U.S. Department of Education, 400 Maryland Avenue, S.W., room 3317, Switzer Building, Washington, DC 20202-2550. Telephone: (202) 260-9182.

If you use a TDD you may call the Federal Information Relay Service (FIRS) at 1-800-877-8339.

Individuals with disabilities may obtain this document in an alternate format (e.g., Braille, large print, audiotape, or computer diskette) on request to the contact persons listed in the preceding paragraph.

Individuals with disabilities may obtain a copy of the application package in an alternate format by contacting the Department at the address listed. However, the Department is not able to reproduce in an alternate format the standard forms included in the application package.

Intergovernmental Review

The program in this notice is subject to the requirements of Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for those programs.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at:

http://www.access.gpo.gov/nara/index.html

Dated: May 17, 2000.
Judith E. Heumann,
Assistant Secretary for Special Education and Rehabilitative Services.

[FR Doc. 00-12923 Filed 5-22-00; 8:45 am]

BILLING CODE 4000-01-U